DEPARTMENT OF TRANSPORTATION

Federal Aviation Administration

[Docket No. FAA-2007-28041]

Notice of Availability for the Final Air Quality General Conformity Determination (Final GCD) for Proposed Operations of Lynx Aviation, Inc. at Denver International Airport, Denver, CO

AGENCY: Federal Aviation Administration (FAA), Department of Transportation (DOT).

ACTION: Notice of availability of the Final Air Quality General Conformity Determination.

SUMMARY: Pursuant to Section 176 (c) of the Clean Air Act Amendments of 1990, the FAA announces the availability of the Final General Conformity Determination for Proposed Operations of Lynx Aviation, Inc. (Lynx), at Denver International Airport (DEN). FAA has determined that emissions from Lynx's operations at DEN conform to the applicable Colorado State Implementation Plans (SIPs).

In accordance with the requirements of 40 CFR § 93.156(b), FAA made the Draft Air Quality General Conformity Determination (Draft GCD) for Proposed Operations of Lynx Aviation, Inc., at Denver International Airport, Denver, CO available for public review beginning on July 20, 2007. FAA published notice of the draft determination in the “Rocky Mountain News,” Denver, Colorado on July 20 and 21, 2007 and DEN made copies of the draft determination available at the airport. FAA published the Notice of Availability and Public Comment Period for the Draft General Conformity Determination in the Federal Register on July 20, 2007 (72 FR 39877).

FAA received one comment during the public comment period, which ended on August 20, 2007. The commenter stated that jet aviation activity results in excessive pollution and that there should be less aviation activity in general in the United States. The commenter did not provide comments specific to the Draft General Conformity Determination; therefore, a response to the comment is not necessary.

Consequently, the Final General Conformity Determination consists of the Draft General Conformity Determination, with two typographical corrections.

1. Page 1, first sentence in the first paragraph under Introduction was revised to read: “Lynx Aviation, Inc. (Lynx Aviation) has announced its interest in initiating scheduled service at Denver International Airport (DEN), now commencing in October 2007.”

2. Page 3, first sentence in the second paragraph under Aircraft and Supportng Equipment Emissions was revised to read: “Under the Proposed Action alternative, Lynx Aviation intends to introduce service at DEN on October 1, 2007.”

Note: The above corrections do not impact the analysis or the results. FAA will also publish this Notice of Availability for the Final General Conformity Determination in the “Rocky Mountain News,” Denver, Colorado.

ADDRESSES: Interested parties may view hard copies of the Final GCD in Denver, CO, Monday through Friday, from 8 a.m. to 4 p.m. Mountain Time at Environmental Services Section, Department of Aviation, City and County of Denver, Elrey B. Jeppesen Terminal Building, Level 6, Room 6619-20, 8400 Peña Boulevard, Denver, CO 80249. Please contact Ms. Aimee Fenlon at 303-342-2636 for appointments.

To request mailed hard copies of the Final GCD, contact Mr. Dennis Harn, Operations Specialist, Safety Evaluation and Analysis Branch, ANM-240, FAA Northwest Mountain Region Headquarters, 1601 Lind Ave., SW., Suite 560, Renton, WA 98057; telephone: 425-227-2560; e-mail: Dennis.Harn@faa.gov; or Mr. Chuck Cox, Operations Specialist, Technical Standards Branch, ANM-230, FAA Northwest Mountain Region Headquarters, 1601 Lind Ave., SW., Suite 560, Renton, WA 98057; telephone: 425-227-2243; e-mail: Chuck.Cox@faa.gov.

The Final GCD is also available for review electronically on the Department of Transportation's Docket Management System (DMS) at http://dms.dot.gov/. Do a simple search for docket number 28041.

FOR FURTHER INFORMATION CONTACT: Mr. Dennis Harn, telephone: 425-227-2560; e-mail: Dennis.Harn@faa.gov; or Mr. Chuck Cox, telephone: 425-227-2243; e-mail: Chuck.Cox@faa.gov.

Issued in Washington, DC, on September 21, 2007.
Carol E. Giles,
Acting Director, Flight Standards Service.

[FR Doc. 07-4763 Filed 9-26-07; 8:45 am]

BILLING CODE 4910-13-M